FEDERAL RETIREMENT THRIFT INVESTMENT

Board Member Meeting

July 27, 2020. 10:00 a.m. Telephonic

Open Session

1. Approval of the June 22, 2020 Board Meeting Minutes

2. Monthly Reports

(a) Participant Activity Report

(b) Legislative Report

3. Quarterly Reports

(c) Investment Policy

(d) Budget Review

(e) Audit Status

4. CARES Act Update

5. Multi-asset Manager Update

6. 5-Year L Funds Update

Executive Session

Information covered under 5 U.S.C. 552b (c)(9)(b) and (c)(10).

Contact Person for More Information: Kimberly Weaver, Director, Office of External Affairs, (202) 942-1640.

SUPPLEMENTARY INFORMATION: Dial-in (listen only) information: Number: 1-877-446-3914, Code: 6819060.

Dated: July 16, 2020.
Megan Grumbine,
General Counsel, Federal Retirement Thrift Investment Board.

[FR Doc. 2020-15834 Filed 7-21-20; 8:45 am]

BILLING CODE 6760-01-P